DEPARTMENT OF COMMERCE

Foreign-Trade Zones Board

[B-3-2014]

Foreign-Trade Zone (FTZ) 49—Newark, New Jersey Area, Notification of Proposed Production Activity, Western Carriers, Inc., (Kitting of Liquor Gift Sets), North Bergen, NJ

The Port Authority of New York and New Jersey, grantee of FTZ 49, submitted a notification of proposed production activity to the FTZ Board on behalf of Western Carriers, Inc. (WCI), located in North Bergen, New Jersey. The notification conforming to the requirements of the regulations of the FTZ Board (15 CFR 400.22) was received on January 13, 2014.

The WCI facility is located within Site 15 of FTZ 49. The facility is used for the production of liquor gift sets by WCI and its customers. Pursuant to 15 CFR 400.14(b), FTZ activity would be limited to the specific foreign-status components and specific finished products described in the submitted notification (as described below) and subsequently authorized by the FTZ Board.

Production under FTZ procedures could exempt WCI and its customers from customs duty payments on the foreign status components used in export production. On its domestic sales, WCI and its customers would be able to choose the duty rate during customs entry procedures that applies to finished whiskey, gin, or vodka gift sets (free) for the foreign status inputs noted below. Customs duties also could possibly be deferred or reduced on foreign status production equipment.

The components sourced from abroad include: glassware (drinking glasses); Irish/Scotch whiskey; gin; and, vodka (duty rate ranges from free to 22.5%).

Public comment is invited from interested parties. Submissions shall be addressed to the FTZ Board's Executive Secretary at the address below. The closing period for their receipt is March 10, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Pierre Duy at Pierre.Duy@trade.gov or (202) 482-1378.

Dated: January 17, 2014.
Andrew McGilvray,
Executive Secretary.

[FR Doc. 2014-01576 Filed 1-27-14; 8:45 am]

BILLING CODE 3510-DS-P